DEPARTMENT OF TRANSPORTATION

Federal Aviation Administration

14 CFR Part 39

[Docket No. 99-NE-12-AD; Amendment 39-13168; AD 2003-11-09]

RIN 2120-AA64

Airworthiness Directives; Turbomeca Turmo IV A and IV C Series Turboshaft Engines; Correction

AGENCY: Federal Aviation Administration, DOT.

ACTION: Final rule; correction.

SUMMARY: This document makes a correction to Airworthiness Directive (AD) 2003-11-09 applicable to Turbomeca Turmo IV A and IV C series turboshaft engines that was published in the Federal Register on May 29, 2003 (68 FR 31970). The engine model in the regulatory section, under applicability, is incorrect. This document corrects that model. In all other respects, the original document remains the same.

EFFECTIVE DATE: July 3, 2003.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION: A final rule AD, FR Doc. 03-13115 applicable to Turbomeca Turmo IV A and IV C series turboshaft engines, was published in the Federal Register on May 29, 2003 (68 FR 31970). The following correction is needed:

§ 39.13 [Corrected]

On page 31970, in the third column, in the regulatory section, under applicability, in the first paragraph, in the fifth line, “FA 330-PUMA” is corrected to read “SA 330-PUMA”.

Issued in Burlington, MA, on June 2, 2003.
Jay J. Pardee,
Manager, Engine and Propeller Directorate, Aircraft Certification Service.

[FR Doc. 03-14275 Filed 6-5-03; 8:45 am]

BILLING CODE 4910-13-P